DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated her responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on August 1, 2013, through August 30, 2013. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Vaccine Injury Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: September 27, 2013.
Mary K. Wakefield,
Administrator.

List of Petitions Filed

1. Bettine DeLea, Venice, Florida, Court of Federal Claims No: 13-0531V

2. Janet Louise Stone, Bolivar, West Virginia, Court of Federal Claims No: 13-0533V

3. Rhonda Throldahl on behalf of Raymond Black, Jr., Deceased, Mankato, Minnesota, Court of Federal Claims No: 13-0534V

4. Bridget Bartsch, Pewaukee, Wisconsin, Court of Federal Claims No: 13-0536V

5. William K. Lavelle, Wilkes-Barre, Pennsylvania, Court of Federal Claims No: 13-0537V

6. Lana Como, Hudson, New York, Court of Federal Claims No: 13-0538V

7. Brooke Etter, Palmyra, Pennsylvania, Court of Federal Claims No: 13-0540V

8. Kevin McErlean, Colts Neck, New Jersey, Court of Federal Claims No: 13-0543V

9. Terry L. Kegler, Ft. Braggs, North Carolina, Court of Federal Claims No: 13-0544V

10. Susan Carlisle, Dallas, Texas, Court of Federal Claims No: 13-0547V

11. Sharon Rosenbaum, Pawleys Island, South Carolina, Court of Federal Claims No: 13-0548V

12. Teresa Valdez, Denver, Colorado, Court of Federal Claims No: 13-0549V

13. Christopher Marconi, Phoenix, Arizona, Court of Federal Claims No: 13-0550V

14. Iluminada Casillas, Port Richey, Florida, Court of Federal Claims No: 13-0551V

15. Gigi H. Corum, Wentworth, North Carolina, Court of Federal Claims No: 13-0554V

16. Laura M. Hidalgo, St. Paul, Minnesota, Court of Federal Claims No: 13-0555V

17. Korey Floyd, Roanoke Rapids, North Carolina, Court of Federal Claims No: 13-0556V

18. Gabriela Gomez, Canoga Park, California, Court of Federal Claims No: 13-0557V

19. Anthony DeCosta, Cranston, Rhode Island, Court of Federal Claims No: 13-0559V

20. Jimmy Tillman, Baton Rouge, Louisiana, Court of Federal Claims No: 13-0561V

21. Ishwar and Penny Gopichand on behalf of Chelsea Kathryn Gopichand, Jacksonville, North Carolina, Court of Federal Claims No: 13-0562V

22. Kathleen Schram, Chicago, Illinois, Court of Federal Claims No: 13-0566V

23. Dawn Brown on behalf of Britteny Dews, Deceased, Marblehead, Massachusetts, Court of Federal Claims No: 13-0569V

24. Catherine Gertrude McCabe, Somers Point, New Jersey, Court of Federal Claims No: 13-0570V

25. Alicia Crawford on behalf of K.C., Richardson, Texas, Court of Federal Claims No: 13-0574V

26. Heather and Matthew Scheidegger on behalf of Troy Scheidegger, Boca Raton, Florida, Court of Federal Claims No: 13-0577V

27. Kenneth P. Silverman on behalf of John N. Kump, Deceased, Medford, New York, Court of Federal Claims No: 13-0579V

28. Melanie Wood on behalf of L.W., Deceased, Jackson, Tennessee, Court of Federal Claims No: 13-0580V

29. Amber Franklin on behalf of Sydnie Franklin, Farmington Hills, Michigan, Court of Federal Claims No: 13-0582V

30. Elizabeth Buneo on behalf of Nicholas Buneo, Rome, New York, Court of Federal Claims No: 13-0589V

31. Greg and Angela Palattao on behalf of Ryan Palattao, Minneapolis, Minnesota, Court of Federal Claims No: 13-0591V

32. Hazel Brown, Gaithersburg, Maryland, Court of Federal Claims No: 13-0594V

33. Joanna King, Federal Way, Washington, Court of Federal Claims No: 13-0627V

34. Shagufta Malik, Jersey City, New Jersey, Court of Federal Claims No: 13-0595V

35. Eric P. Cabrera and Carol Cabrera on behalf of Liam Cabrera, Orlando, Florida, Court of Federal Claims No: 13-0598V

36. Ronda Morris, Mt. Pleasant, North Carolina, Court of Federal Claims No: 13-0601V

37. Lucille Dalpe, East Providence, Rhode Island, Court of Federal Claims No: 13-0602V

38. Bruce A. Goldsmith, San Francisco, California, Court of Federal Claims No: 13-0603V

39. Anthony Inskeep, Mayfield Heights, Ohio, Court of Federal Claims No: 13-0604V

40. Victoria McWilliams, Newtown Square, Pennsylvania, Court of Federal Claims No: 13-0605V

41. Leonard Kazmierski, Pittsburg, Kansas, Court of Federal Claims No: 13-0606V

42. Joseph Buhler, Oshkosh, Wisconsin, Court of Federal Claims No: 13-0609V

43. Amy Cowen, Boston, Massachusetts, Court of Federal Claims No: 13-0610V

44. Chase Boatman and Maurina Cupid on behalf of J.B., Deceased, Boston, Massachusetts, Court of Federal Claims No: 13-0611V

45. Mordichai and Chana Pshemish on behalf of Y.P., Boca Raton, Florida, Court of Federal Claims No: 13-0612V

46. Bryan Krehnbrink, Boston, Massachusetts, Court of Federal Claims No: 13-0613V

47. Saro Manoukian, Worcester, Massachusetts, Court of Federal Claims No: 13-0614V

48. Howard S. Kahn, Baraboo, Wisconsin, Court of Federal Claims No: 13-0615V

49. James E. Smith, Lake City, Tennessee, Court of Federal Claims No: 13-0617V

50. John Ryng, Bristol, Connecticut, Court of Federal Claims No: 13-0618V

51. Ruth Day, Denton, Texas, Court of Federal Claims No: 13-0620V

52. Latasha George, Lake Charles, Louisiana, Court of Federal Claims No: 13-0621V

53. Danya Wright, Tarrant, Texas, Court of Federal Claims No: 13-0622V

54. Joseph Wojtanowski, Providence, Rhode Island, Court of Federal Claims No: 13-0623V

55. Cynthia M. Morris (Sabin), Dekalb, Illinois, Court of Federal Claims No: 13-0624V

56. Steven Carpenter, Lander, Wyoming, Court of Federal Claims No: 13-0628V

57. Cathy L. Jackson, Raleigh, North Carolina, Court of Federal Claims No: 13-0630V

58. Douglas Orton on behalf of Walter J. Orton, III, Deceased, Grand Island, New York, Court of Federal Claims No: 13-0631V

[FR Doc. 2013-24220 Filed 10-2-13; 8:45 am]

BILLING CODE 4165-15-P